DEPARTMENT OF LABOR

Employment and Training Administration

[TA-W-42,175]

Hilti Inc., New Castle, PA; Notice of Negative Determination Regarding Application for Reconsideration

By application received on December 9, 2002, petitioners requested administrative reconsideration of the Department's negative determination regarding eligibility for workers and former workers of the subject firm to apply for Trade Adjustment Assistance (TAA). The denial notice applicable to workers of Hilti Inc., New Castle, Pennsylvania was signed on November 13, 2002, and published in the Federal Register on November 27, 2002 (67 FR 70970).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition was filed on behalf of workers at Hilti Inc., New Castle, Pennsylvania engaged in activities related to repair of machinery and fabrications. The petition was denied because the petitioning workers did not produce an article within the meaning of section 222(3) of the Act.

The petitioner alleges that the workers do not perform bookkeeping services as addressed in the “Negative Determination Regarding Eligibility To Apply for Workers Adjustment Assistance”.

A review of the initial investigation indicates that the workers were engaged in activities related to repair of machinery and fabrications. The TAA decision was based on the correct service functions performed by the subject firm. The Department inadvertently referenced “bookkeeping” rather than “repair of machinery and fabrication” in the decision.

The petitioner also alleges that the petitioning worker group was engaged in production as “it relates to material movement, welding repair, and other functions related to ingot production and the production of SBQ steel bar”.

Contact with the company revealed that petitioning workers were engaged in fabrication (welding) and repair service of machinery at unaffiliated steel facilities on a contract basis. These functions do not constitute production.

Only in very limited instances are service workers certified for TAA, namely the worker separations must be caused by a reduced demand for their services from a parent or controlling firm or subdivision whose workers produce an article and who are currently under certification for TAA.

In conclusion, the workers at the subject firm did not produce an article within the meaning of Section 222(3) of the Trade Act of 1974, as amended.

Conclusion

After review of the application and investigative findings, I conclude that there has been no error or misinterpretation of the law or of the facts which would justify reconsideration of the Department of Labor's prior decision. Accordingly, the application is denied.

Signed at Washington, DC, this 27th day of February, 2003.
Edward A. Tomchick,
Director, Division of Trade Adjustment Assistance.

[FR Doc. 03-6410 Filed 3-17-03; 8:45 am]

BILLING CODE 4510-30-P